NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on October 13 and 14, 2004. A sample of agenda items to be discussed during the public sessions includes: (1) Use of I-125 Brachytherapy Seeds as Markers; (2) Proposed Changes to Abnormal Occurrence Criteria; (3) Discussion of Medical Event Criteria; and, (4) Update on St. Joseph Mercy Hospital Dose Reconstruction Case. To review the agenda, see http://www.nrc.gov/ reading-rm/doc-collections/acmui/schedules/2004/ or contact arm@nrc.gov.

Purpose: Discuss issues related to 10 CFR Part 35, Medical Use of Byproduct Material.

Date and Time for Closed Session Meeting: October 13, 2004, from 8 a.m. to 10 a.m. This session will be closed so that NRC staff can give the ACMUI its required annual ethics briefing.

Dates and Times for Public Meetings: October 13, 2004, from 8:30 a.m. to 5 p.m.; October 14, 2004, from 8 a.m. to 5 p.m.

Address for Public Meetings: U.S. Nuclear Regulatory Commission, Two White Flint North Building, Room T2B3, 11545 Rockville Pike, Rockville, MD 20852-2738.

FOR FURTHER INFORMATION CONTACT: Angela R. McIntosh, telephone (301) 415-5030; e-mail arm@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Angela R. McIntosh, U.S. Nuclear Regulatory Commission, Two White Flint North, Mail Stop T8F5, 11545 Rockville Pike, Rockville, MD 20852-2738. Submittals must be postmarked by September 15, 2004, and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about January 14, 2005. This meeting will be held in accordance with the Atomic Energy Act of 1954, as amended (primarily Section 161a); the Federal Advisory Committee Act (5 U.S.C. App); and the Commission's regulations in Title 10, U.S. Code of Federal Regulations, Part 7.

4. Attendees are requested to notify Angela R. McIntosh at (301) 415-5030 of their planned attendance if special services, such as for the hearing impaired, are necessary.

Dated at Rockville, Maryland, this 23rd day of August, 2004.
For the Nuclear Regulatory Commission.
Andrew L. Bates,
Advisory Committee Management Officer.

[FR Doc. 04-19595 Filed 8-26-04; 8:45 am]

BILLING CODE 7590-01-P